DEPARTMENT OF COMMERCE

National Oceanic and Atmospheric Administration

[File No. 781-1824]

RIN 0648-XZ66

Marine Mammals

AGENCY: National Marine Fisheries Service, National Oceanic and Atmospheric Administration, Commerce.

ACTION: Notice; receipt of application for permit amendment; extension of public comment period.

SUMMARY: On November 9, 2010, NMFS published a Notice of Receipt that the Northwest Fisheries Science Center (NWFSC, Dr. M. Bradley Hanson, Principal Investigator), 2725 Montlake Blvd. East, Seattle, Washington 98112-2097, had applied for an amendment to Scientific Research Permit No. 781-1824-01. Public comments were due by December 09, 2010. NMFS has extended the comment period to allow additional time for submission of public comments on this action.

DATES: The public comment period for this action has been extended for 14 days. Written comments must be received or postmarked by December 23, 2010.

ADDRESSES: The application and related documents are available for review by selecting “Records Open for Public Comment” from the Features box on the Applications and Permits for Protected Species home page, https://apps.nmfs.noaa.gov, and then selecting File No. 781-1824 from the list of available applications.

These documents are also available upon written request or by appointment in the following office(s):

Permits, Conservation and Education Division, Office of Protected Resources, NMFS, 1315 East-West Highway, Room 13705, Silver Spring, MD 20910; phone (301)713-2289; fax (301)713-0376; and Northwest Region, NMFS, 7600 Sand Point Way, NE., BIN C15700, Bldg. 1, Seattle, WA 98115-0700; phone (206)526-6150; fax (206)526-6426.

Written comments on this application should be submitted to the Chief, Permits, Conservation and Education Division, at the address listed above. Comments may also be submitted by facsimile to (301)713-0376, or by e-mail to NMFS.Pr1Comments@noaa.gov. Please include File No. 781-1824 in the subject line of the email comment.

FOR FURTHER INFORMATION CONTACT: Amy Sloan or Laura Morse, (301)713-2289.

SUPPLEMENTARY INFORMATION: On November 9, 2010 (75 FR 68757), notice of receipt of an application to amend Permit No. 781-1824 was published specifying the date on which comments were due as December 09, 2010. This notice only extends the comment period. The revised comment deadline is specified in the DATES section of this notice. Please refer to the November 9, 2010 notice for a summary of the application.

Dated: December 3, 2010.
Tammy C. Adams,
Acting Chief, Permits, Conservation and Education Division, Office of Protected Resources, National Marine Fisheries Service.

[FR Doc. 2010-30909 Filed 12-7-10; 8:45 am]

BILLING CODE 3510-22-P